DEPARTMENT OF AGRICULTURE

Food and Nutrition Service

Agency Information Collection Activities: Notice of Emergency Approval of New Information Collection for Examination of Cash Nutrition Assistance Program (NAP) Benefits in Puerto Rico

AGENCY: Food and Nutrition Service (FNS), USDA.

ACTION: Notice.

SUMMARY: In accordance with the Paperwork Reduction Act of 1995, this notice announces FNS' intention to request emergency approval from the Office of Management and Budget (OMB) and invites the general public and other public agencies to comment on this proposed information collection. This is a new collection for Examination of Cash Nutrition Assistance Program Benefits in Puerto Rico.

ADDRESSES: Comments are invited on (a) whether the proposed collection of information is necessary for the proper performance of the functions of the agency, including whether the information shall have practical utility; (b) the accuracy of the agency's estimate of the burden of the proposed collection of information, including the validity of the methodology and assumptions that were used; (c) ways to enhance the quality, utility and clarity of the information to be collected; and (d) ways to minimize the burden of the collection of information on those who are to respond, including the use of appropriate automated, electronic, mechanical or other technological collection techniques or other forms of information technology.

Written comments may be sent to Richard Lucas, Office of Policy Support, Food and Nutrition Service, U.S. Department of Agriculture, 3101 Park Center Drive, Room 1014, Alexandria, VA 22302. Comments may also be submitted via fax to the attention of Richard Lucas at 703-305-2576 or via email to Richard.Lucas@fns.usda.gov. Comments will also be accepted through the Federal eRulemaking Portal. Go to http://www.regulations.gov, and follow the online instructions for submitting comments electronically.

All written comments will be open for public inspection at the office of the Food and Nutrition Service during regular business hours (8:30 a.m. to 5:00 p.m. Monday through Friday) at 3101 Park Center Drive, Room 1014, Alexandria, VA 22302.

All responses to this notice will be summarized and included in the request for Office of Management and Budget approval. All comments will be a matter of public record.

DATES: Written comments must be received on or before September 16, 2014.

FOR FURTHER INFORMATION CONTACT: Requests for additional information or copies of this information collection should be directed to Richard Lucas at 703-305-2017.

SUPPLEMENTARY INFORMATION: Title: Examination of Cash Nutrition Assistance Program Benefits in Puerto Rico.

OMB Number: 0584—NEW.

Expiration Date: Not yet determined.

Type of Request: Emergency request for a new collection.

Abstract

The Nutrition Assistance Program (NAP) is a critical Federal Government assistance program provided to low-income residents of Puerto Rico. Since July 1982, Puerto Rico has operated NAP from Federal funds received as a block grant. In late 2001, Puerto Rico developed an electronic benefit transfer (EBT) system and mandated that 75 percent of a household's monthly benefit be restricted to the EBT system for purchasing eligible food items at certified retailers. The remaining 25 percent of the monthly benefit may be issued in the form of cash to allow participants a way to purchase food from retailers not certified to accept EBT.

In early 2014, Congress reauthorized the Food and Nutrition Act of 2008 in the Agricultural Act of 2014 (Pub. L. 113-79), commonly known as the 2014 Farm Bill, which included a provision for the gradual discontinuation of the cash portion of the NAP benefit until, by FY 2021, no benefits in the form of cash will be issued (Section 4025). The legislation also required a review of NAP cash benefits in Puerto Rico, including the history and purpose of the cash portion, barriers to redeeming the non-cash portion, and usage of cash benefits for the purchase of non-food items. Additionally, it required an assessment of the potential adverse effects of discontinuing the cash portion for both participants and retailers, and allows the Secretary of Agriculture to exempt participants or categories of participants if the review finds that the discontinuation of cash benefits is likely to have significant adverse effects.

This study performs the required assessment of the cash portion of benefits received under NAP in Puerto Rico. The specific research objectives are to:

• Objective 1: Review the history and purpose of distributing a portion of monthly benefits in the form of cash

• Objective 2: Examine the barriers to the redemption of non-cash benefits by both program participants and retailers

• Objective 3: Examine the current usage of cash benefits for the purchase of non-food and other prohibited items

• Objective 4: Identify and assess the potential adverse effects of the discontinuation of cash benefits for both program participants and retailers

Primary data collected from NAP participants, NAP-certified and uncertified retailers, community-based organizations (CBOs), and group residential facilities will be analyzed to assess barriers to redeeming the non-cash portion of the benefit, use of the cash portion of the benefit, and potential adverse effects on participants and retailers from eliminating the cash portion of the benefit.

The information collection includes the following components:

• A telephone survey with NAP participants,

• Focus groups with NAP participants,

• In-person (semi-structured) interviews with certified and uncertified retailers,

• In-person (semi-structured) interviews with directors of community-based organizations that work with NAP participants, and

• In-person (semi-structured) interviews with directors of residential facilities where NAP participants live

Affected Public

Respondent groups identified include: (1) NAP participants across Puerto Rico; (2) managers or owners of food stores (retailers) across Puerto Rico; (3) directors of CBOs, and (4) directors/managers of group residential facilities.

Estimated Number of Respondents

The total estimated number of respondents is 1,467. This includes 1,000 NAP participants for telephone surveys (75 percent of whom will complete surveys); 396 NAP participants for the focus groups (41 percent of whom will attend the focus groups); and 60 retailers (30 certified and 30 uncertified) for the in-person semi-structured interviews (50 percent of whom will complete interviews). Also included are 6 CBO directors and 5 directors/managers of group residential facilities.

Estimated Number of Responses per Respondent

All respondents (NAP participants, retailers, and CBO and group residential facility directors) will respond once, either to one telephone survey, one focus group, or one in-person interview. In addition, all respondents will be contacted with an advance letter, and will receive recruitment phone calls.

Estimated Total Annual Responses

The estimated total annual responses is 4,475, including contacts with an advance letter, initial recruitment phone calls, follow-up phone calls, and completed surveys, focus groups, and interviews.

The 4,475 responses are based on the sum of 2,659 successful contacts or completed surveys, focus groups, and interviews, and 1,816 attempted contacts, surveys, and interviews.

Estimated Time per Response

Response times may vary from 0.05 hours to 1.5 hours depending on actual activity and respondent group. The estimated time per interview ranges from 0.18 hours to 1.5 hours, depending on respondent group and interview mode.

Estimated Total Annual Burden on Respondents

The estimated total annual burden on respondents is 599.08 hours (including recruitment communications and completed and attempted interviews and surveys). See the table below for estimated total annual burden for each type of respondent.

BILLING CODE: 3410-30-P

Dated: July 14, 2014.
Audrey Rowe,
FNS Administrator, Food and Nutrition Service.

[FR Doc. 2014-16914 Filed 7-17-14; 8:45 am]

BILLING CODE 3410-30-C